DEPARTMENT OF HEALTH AND HUMAN SERVICES

[Document Identifier: OS-4040-0008; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: SF-424C (Budget Information—Construction Programs)—Reinstatement without Change—OMB No. 4040-0008—Grants.gov.

Abstract: The SF-424C (Budget Information—Construction Programs) form is being renewed without any proposed changes. This form could be utilized by up to 26 Federal grant making agencies. The SF-424C is used to provide budget information when applying for construction projects under Federal grants. The Federal awarding agencies use information reported on the form for the evaluation of award and general management of Federal assistance program awards.

Estimated Annualized Burden Table
Agency | Number of respondents | Number of responses per respondent | Average burden per response (in hours) | Total burden hours
DOD | 8 | 2.5 | 1.53 | 31
DOT | 134 | 1 | 3 | 402
VA | 163 | 1.24 | 38/60 | 128
HHS | 540 | 1.73 | 2 | 1868
DOI | 2535 | 1.31 | 136/60 | 7550
DOC | 225 | 1 | 2 | 450
DHS | 2608 | 1 | 1.5 | 3912
Total |  |  |  | 14,341

Seleda M. Perryman,
Office of the Secretary, Paperwork Reduction Act Clearance Officer.

[FR Doc. 2010-19901 Filed 8-11-10; 8:45 am]

BILLING CODE P